DEPARTMENT OF HEALTH AND HUMAN SERVICES

42 CFR Part 84

[Docket No. CDC-2013-0004; NIOSH-216]

RIN 0920-AA42

Respirator Certification Fees

Correction

In rule document 2015-01046, appearing on pages 3891-3913 in the issue of Monday, January 26, 2015, make the following correction:

On page 3894, in the second column, in the third paragraph, the entry reading “[INSERT DATE 120 DAYS AFTER PUBLICATION IN THE Federal Register]” should read May 26, 2015.

[FR Doc. C1-2015-01046 Filed 1-28-15; 8:45 am]

BILLING CODE 1505-01-D